DEPARTMENT OF DEFENSE

Department of the Army, US Army Corps of Engineers

Notice of Intent To Prepare an Integrated Feasibility Report and Environmental Impact Statement for the St. Tammany Parish, Louisiana Feasibility Study

AGENCY: U.S. Army Corps of Engineers, Department of Defense.

ACTION: Notice of intent.

SUMMARY: Pursuant to the National Environmental Policy Act (NEPA), the U.S. Army Corps of Engineers, New Orleans District (CEMVN) intends to prepare an Integrated Feasibility Report and Environmental Impact Statement (IFR-EIS) to evaluate potential coastal storm risk management measures and flood risk management measures in St. Tammany Parish as part of the St. Tammany Parish, Louisiana Feasibility Study. The IFR-EIS will evaluate reasonable alternatives and anticipated social, economic, and environmental impacts associated with those alternatives, as well as potential mitigation measures if adverse impacts are identified. The IFR-EIS will document the existing condition of significant resources in and around areas considered for construction and potential impacts to those resources as a result of implementing the alternatives and any mitigation measures.

DATES: A Scoping Meeting Notice announcing the locations, dates and times for scoping meetings is anticipated to be posted on the study website, https://www.mvn.usace.army.mil/Media/Public-Meetings/ and published in the local newspapers no later than 15 days prior to the meeting dates.

ADDRESSES: U.S. Army Corps of Engineers, New Orleans District, Attn: Mrs. Amy Dixon, Project Manager, Room 335, CEMVN-PMR-C, 7400 Leake Avenue, New Orleans, LA 70118. StTammanyFS@usace.army.mil.

FOR FURTHER INFORMATION CONTACT: Questions or comments about the proposed action and requests to be added to the mailing list should be directed to: Mrs. Amy Dixon, U.S. Army Corps of Engineers, New Orleans District, Attn: CEMVN-PMR-C, 7400 Leake Avenue, New Orleans, LA 70118; by phone at: (504) 862-1798; or by email at StTammanyFS@usace.army.mil. For additional information, please visit https://www.mvn.usace.army.mil/About/Projects/BBA-2018/studies/St-Tammany/.

SUPPLEMENTARY INFORMATION: The lead agency for this proposed action is the U.S. Army Corps of Engineers (USACE). The Louisiana Coastal Protection and Restoration Authority Board is the non-Federal sponsor.

1. Authority: Sections 1201 and 1207 of the Water Infrastructure Improvements Act of 2016 authorize the St. Tammany Parish, Louisiana Study for water resource development and conservation that include determining the feasibility of implementing projects for multiple purposes, including but not limited to, flood risk management as set forth in the 2015 and 2016 Reports to Congress on Future Water Resources Development. The St. Tammany Parish Louisiana Feasibility Study was authorized for inclusion as a funded study in the Bipartisan Budget Act of 2018 (Pub. L. 115-123), Division B, Subdivision 1, Title IV (BBA 2018) in a Memorandum from the Office of the Deputy Commanding General for Civil and Emergency Operations. The Memorandum provided that plan formulation will be limited to Coastal Storm Risk Management and Flood Risk Management in accordance with BBA 2018. The Government is authorized by BBA 2018 to conduct the Study at full Federal expense to the extent that appropriations provided under the Investigations heading of the BBA 2018 are available and used for such purpose.

2. Background: The study area is comprised of the entirety of St. Tammany Parish, with a focus on the areas impacted by flooding from rainfall and riverine bank overtopping, waves, and storm surge. The study area is located along the border with the state of Mississippi, with the Pearl River along the eastern boundary of the Parish. Lake Pontchartrain serves as the southern border, and is one of the largest estuaries in the United States, with the site of the Southeastern Louisiana National Wildlife Refuge Complex Headquarters in Lacombe. Tangipahoa Parish is located along the western boundary, and Washington Parish is located to the north. The majority of the Parish's population resides in communities along the edge of Lake Pontchartrain, and many residents commute into New Orleans.

Increased resiliency to flood events is the primary identified need for the affected communities within the study area. In addition, the study area's topography, low elevation, and proximity to the Gulf of Mexico are all contributing factors causing flooding and erosion, and degradation of wetland systems within the Parish. Without additional coastal storm and flood risk management measures, the people, economy, environment, and cultural heritage of St. Tammany Parish are at risk from reoccurring flooding.

The scoping, public involvement, and interagency coordination processes will help identify and define the range of the areas within the Parish that experience repetitive flood events, the types of damages caused by such events, and suggested alternatives to reduce the risk of flooding caused by such events. Important resources and issues evaluated in IFR-EIS could include, but are not limited to, the direct, indirect, and cumulative effects on socioeconomics, navigation, wetlands, uplands, aquatic and biological resources, prime and unique farmlands, essential fish habitat, waterfowl, wildlife resources, geology and soils agricultural land and prime and unique farmland; hydrology and hydraulics, threatened and endangered species and their critical habitat, wildlife resources, and other protected species of concern, cultural resources, recreation, aesthetics and visual resources, hazardous, toxic and radioactive waste, environmental justice, soils, air quality, and water quality. USACE will also consider issues identified and comments made throughout scoping, public involvement, and interagency coordination.

3. Alternatives: The USACE will evaluate a range of reasonable alternatives to reduce coastal storm and flood risks including structural and nonstructural measures. For the reasonable and practicable alternatives, the USACE will fully evaluate them, including the no action alternative. Alternatives could include avoidance and minimization and mitigation measures to reduce or offset any impacts.

4. Public Involvment: Public involvement, an essential part of the NEPA process, is integral to assessing the environmental consequences of the proposed action and improving the quality of the agency decision-making. The public includes affected and interested Federal, state, and local agencies, Indian tribes, concerned citizens, stakeholders, and other interested parties. Public participation in the NEPA process is strongly encouraged, both formally and informally, to enhance the probability of a more technically accurate, economically feasible, socially acceptable, and environmentally sound IFR-EIS. Public involvement will include, but is not limited to: Information dissemination; identification of problems, needs and opportunities; idea generation; public education; problem solving; providing feedback on proposals; evaluation of alternatives; conflict resolution; public and scoping notices and meetings; public, stakeholder and advisory groups consultation and meetings; and making the IFR-EIS and supporting information readily available in conveniently located places, such as libraries and on the internet.

5. Scoping: Scoping, an early and open process for identifying the scope of significant issues related to the proposed action to be addressed in the IFR-EIS, will be used to: (a) Identify the affected public and agency concerns; (b) facilitate an efficient IFR-EIS preparation process; (c) define the issues and alternatives that will be examined in detail in the IFR-EIS; and (d) save time in the overall process by helping to ensure that the IFR-EIS adequately addresses relevant issues. A Scoping Meeting Notice announcing the locations, dates and times for scoping meetings is anticipated to be posted on the study website, https://www.mvn.usace.army.mil/About/Projects/BBA-2018/studies/ and published in the local newspapers no later than 15 days prior to the meeting dates.

6. Coordination: The USACE will serve as the lead Federal agency in the preparation of the IFR-EIS. Other federal and/or state agencies may participate as cooperating and/or commenting agencies throughout the IFR-EIS process.

In accordance with Executive Order, 1307, referred to as One Federal Decision (OFD), the USACE and other agencies with environmental review, authorization, or consultation responsibilities for major infrastructure projects should develop a single EIS, sign a single Record of Decision (ROD) and issue all necessary authorizations within 90 days thereafter, subject to limited exceptions. An essential element of the OFD framework is the development of a schedule, referred to as the “Permitting Timetable,” including key milestones critical to completion of the environmental review and issuance of a ROD. Cooperating agencies required by law to develop schedules for environmental review or authorization processes should transmit a summary of such schedules to the lead agency for integration into the Permitting Timetable.

To ensure timely completion of the environmental review and issuance of necessary authorizations, OMB and CEQ recommend the Permitting Timetable for major infrastructure projects provide for environmental review according to the following schedule:

a. Formal scoping and preparation of a Draft EIS (DEIS) within 14 months, beginning on the date of publication of the NOI to publish an EIS and ending on the date of the Notice of Availability of the DEIS;

b. Completion of the formal public comment period and development of the Final EIS (FEIS) within eight months of the date of the Notice of Availability of the DEIS; and

c. Publication of the final ROD within two months of the publication of the Notice of Availability of the FEIS.

While the actual schedule for any given project may vary based upon the circumstances of the study and applicable law, agencies should endeavor to meet the two-year goal established in E.O. 13807.

The U.S. Fish and Wildlife Service (Service) will assist in documenting existing conditions and assessing effects of project alternatives through the Fish and Wildlife Coordination Act consultation procedures. Other environmental review and consultation requirements for the proposed project include the need for Louisiana Department of Environmental Quality Clean Water Act Section 401 water quality certification. In addition, because the proposed project may affect federally listed species, the USACE will consult with the Service and the National Marine Fisheries Service (NMFS) in accordance with Endangered Species Act, Section 7. The NMFS will be consulted regarding the effects of this proposed project on Essential Fish Habitat per the Magnuson-Stevens Act. The USACE will also consult with the State Historic Preservation Officer under Section 106 of the National Historic Preservation Act concerning properties listed, or potentially eligible for listing on the National Historic Register. The USACE will also coordinate with the Louisiana Department of Natural Resources for Coastal Zone Management Consistency per the Coastal Zone Management Act.

7. Availability: The Draft IFR-EIS is expected to be available for public comment and review no sooner than December 2020. At that time, a 45-day public review period will be provided for individuals and agencies to review and comment on the DEIS. All interested parties are encouraged to respond to this notice and provide a current mailing or email address if they wish to be notified of the Draft IFR-EIS circulation.

James A. Bodron,
Regional Business Director, Mississippi Valley Division.

[FR Doc. 2020-13239 Filed 6-18-20; 8:45 am]

BILLING CODE 3720-58-P